DEPARTMENT OF THE INTERIOR

Fish and Wildlife Service

Notice of Availability of the Draft Comprehensive Conservation Plan and Environmental Assessment for the Turnbull National Wildlife Refuge, and Notice of Public Meetings

AGENCY: Fish and Wildlife Service.

ACTION: Notice of Availability and Notice of Public Meetings.

SUMMARY: The U.S. Fish and Wildlife Service (Service) announces that a Draft Comprehensive Conservation Plan and Environmental Assessment (Draft CCP/EA) for Turnbull National Wildlife Refuge (Refuge) is available for review and comment. This Draft CCP/EA, prepared pursuant to the National Wildlife Refuge System Administration Act, as amended, and the National Environmental Policy Act of 1969, describes the Service's proposal for managing the Refuge for the next 15 years. Proposed changes to Refuge management include: adding an elk hunting program; adding a youth waterfowl hunt; establishing a land conservation program with potential Refuge expansion; and expanding the interpretive, environmental education, wildlife viewing, and wildlife photography facilities and programs. The draft compatibility determinations for several different public uses are also available for review with the Draft CCP/EA.

DATES: Written comments must be received at the address below by August 29, 2005. Public open houses will be held:

1. July 12, 5-8 pm, Spokane Falls Community College, Spokane, Washington.

2. July 13, 5-8 pm, Cheney High School, Cheney, Washington.

ADDRESSES: Comments on the Draft CCP/EA should be addressed to: Nancy Curry, Refuge Manager, Turnbull National Wildlife Refuge, 26010 S. Smith Road, Cheney, Washington 99004. Comments may also be submitted at the public meetings or via electronic mail to FW1PlanningComments@fws.gov. Please type “Turnbull NWR CCP” in the subject line. The public meeting locations are:

1. Spokane Falls Community College, 3410 W. Fort George Wright Dr., Student Union Building #17, Lounge AB, Spokane, Washington.

2. Cheney High School, 460 N. 6th St., Cheney, Washington.

FOR MORE INFORMATION CONTACT: Nancy Curry, Refuge Manager, Turnbull National Wildlife Refuge, 26010 S. Smith Road, Cheney, Washington 99004, phone number (509) 235-4723.

SUPPLEMENTARY INFORMATION: Copies of the Draft CCP/EA may be obtained by writing to U.S. Fish and Wildlife Service, Attn: Sharon Selvaggio, Pacific Northwest Planning Team, 16507 Roy Rogers Road, Sherwood, Oregon, 97140. Copies of the Draft CCP/EA may be viewed at Turnbull National Wildlife Refuge, 26010 S. Smith Rd, Cheney, Washington 99004. The Draft CCP/EA will also be available for viewing and downloading online at http://pacific.fws.gov/planning. Printed documents will be available for review at the following libraries: Cheney Public Library at 610 1st Street, Cheney Washington, and the Spokane County Public Library at 906 West Main St., Spokane, Washington.

Background

Turnbull National Wildlife Refuge (Refuge) is located in eastern Washington in the southwest corner of Spokane County and protects a portion of the extensive Channeled Scablands geological formation. Turnbull Refuge contributes substantially to the conservation of fish, wildlife, and native habitats of the Channeled Scablands. The Refuge protects much of the remaining intact wetland habitat of the Channeled Scablands, and provides important breeding habitat for many waterfowl, particularly redhead ducks, and other waterbirds. The Refuge contains one of the few remaining protected blocks of the rare Palouse Steppe habitat. Ponderosa pine and aspen habitat are also found here. Wildlife conservation is the priority of National Wildlife Refuge System lands.

Purpose and Need for Action

The purpose of the CCP is to provide a coherent, integrated set of management actions to help attain the Refuge vision, goals, and objectives. The CCP identifies the role the Refuge should play in support of the mission of the National Wildlife Refuge System, explains the Service's management actions, and provides a basis for Refuge budget requests.

Alternatives

The Draft CCP/EA identifies and evaluates four alternatives for managing Turnbull National Wildlife Refuge for the next 15 years. The proposed action is to implement Alternative 3 as described in the Draft EA. Alternative 3 best achieves the Refuge's purposes, vision and goals; contributes to the Refuge System mission; addresses significant issues and relevant mandates; and is consistent with principles of sound fish and wildlife management.

Alternative 1. No Action Alternative

The No Action alternative, required by the National Environmental Policy Act, provides a baseline from which to compare the action Alternatives (Alternatives 2, 3, and 4). Under Alternative 1, Refuge management practices already underway or funded would continue. The current low-to-moderate level of recreational services and activities would continue to be provided. An active Environmental Education program would continue, but could fluctuate without a stable staff base. Most casual Refuge users would find short trails with little or no interpretive material. A visitor contact station would not be built. Hunting programs would not be initiated. The Service would actively encourage conservation within a 21,396-acre Stewardship Area as outlined in the 1999 Habitat Management Plan. The intent of the Stewardship Area would be to encourage voluntary conservation and restoration of habitats to provide mutual benefits to local aquatic resources and upland habitats. However, no additional staff for stewardship or outreach would be added. The Approved Refuge Boundary would not be changed under this alternative.

Alternative 2. Moderate Recreation Increase

Under Alternative 2, the Environmental Education program would be moderately expanded and additional opportunities for wildlife observation, photography, and interpretive opportunities would be available. Four miles of trail would be added, and most viewpoints would be supported with interpretive signs. A small visitor contact point would be added to the current office space. The Environmental Education program facilities would be enlarged at their current location. Contingent upon approval of a Hunting Plan and publishing rules in the Federal Register, the Refuge would offer an elk hunting program annually. Hunting season length, number of permits, and seasons offered would vary according to the level of aspen damage observed on the Refuge each year. The Service would actively encourage conservation within a Stewardship Area of approximately 44,536 acres surrounding the Refuge. The intent of the Stewardship Area would be to encourage voluntary conservation and habitat restoration, to benefit local aquatic resources and upland wildlife habitats, through outreach activities and technical assistance. The Refuge would not acquire any properties outside the existing Approved Refuge Boundary.

Alternative 3. Recreation With Aquatic and Biodiversity Stewardship (Proposed Action)

Under this alternative, the Environmental Education program would be expanded, with greater numbers of students both on and off Refuge offered the opportunity to learn about the wildlife and ecology of the Channeled Scablands and Turnbull Refuge. Additional classroom space would be added, allowing the Refuge to accommodate two classes at the same time. The trail network would be expanded by approximately four miles and two additional viewpoints would be added. A small visitor contact point would be established inside new office space. Using the old highway roadbed, a designated bike trail would be established along Cheney-Plaza Road to link the Columbia Plateau Trail with the Public Use Area. Contingent upon approval of a Hunting Plan and publishing rules in the Federal Register, the Refuge would offer an annual elk hunting program and youth waterfowl hunt. The hunt would occur during the State's special season for youths, now occurring in mid-September. The new waterfowl hunting program would emphasize education, possibly requiring a waterfowl identification or natural history class for youths participating in the hunt. The Refuge would consider expanding the waterfowl hunt in the future once more fall waterfowl habitat has been restored in the vicinity of the Refuge. The Service would actively encourage conservation within a Stewardship Area, as described under Alternative 2. In addition, the Service would seek protection within the National Wildlife Refuge System of up to 12,000 acres by fee, easement, or agreement from willing sellers on priority lands within the Stewardship Area. Priority lands include adjoining lands that are most critical for protection of Refuge water quality and quantity; have the highest quality steppe, pine, and wetland habitat; and provide the best opportunities for wetlands restoration or protection.

Alternative 4. High Conservation and High Recreation Opportunities

Under Alternative 4, the Environmental Education program would be expanded, with greater numbers of students both on and off Refuge offered the opportunity to learn about the wildlife and ecology of the Channeled Scablands and Turnbull Refuge. Trails would be expanded as under Alternative 3. Six additional viewpoints would be added. A new moderately sized visitor and interpretive center would be built or leased, designed in concert with a new expanded environmental education facility. With partner's assistance, a designated loop bike trail would be established through the Refuge to link the Columbia Plateau Trail with the Public Use Area. Contingent upon approval of a Hunting Plan and publishing rules in the Federal Register, the Refuge would offer an elk hunting program and a waterfowl hunting program during the State's general duck season. Turkey hunting may also be considered during the next 15 years, depending on turkey population trends. The Service would actively encourage conservation within a Stewardship Area, as described under Alternative 2. In addition, the Service would seek protection of up to 25,000 acres within the National Wildlife Refuge System by fee, easement, or agreement from willing sellers on priority lands within the Stewardship Area.

Under all alternatives, habitat and fire management practices on the Refuge would continue as described under the Habitat Management Plan and the Fire Management Plan.

Public Comments

Public comments are requested, considered, and incorporated throughout the planning process. A previous notice was published in the Federal Register concerning this Draft CCP/EA on March 2, 2000. After the review and comment period ends for this Draft CCP/EA, comments will be analyzed by the Service and addressed in revised planning documents. All comments received from individuals, including names and addresses, become part of the official public record and may be released. Requests for such comments will be handled in accordance with the Freedom of Information Act, the Council on Environmental Quality's NEPA regulations [40 CFR 1506.6(f)], and Service and Departmental policies and procedures.

Dated: June 22, 2005.
Carolyn A. Bohan,
Acting Regional Director, Region 1, Portland, Oregon.

[FR Doc. 05-12804 Filed 6-29-05; 8:45 am]

BILLING CODE 4310-55-P